DEPARTMENT OF ENERGY

Federal Energy Regulatory Commission

Combined Notice of Filings

Take notice that the Commission has received the following Natural Gas Pipeline Rate and Refund Report filings:

Filings Instituting Proceedings

Docket Number: PR16-11-000.

Applicants: ONEOK WesTex Transmission, L.L.C.

Description: Tariff filing per 284.123(b)(1) + (g): Petition for Firm 311 Service to be effective 1/1/2016; Filing Type: 1300.

Filed Date: 1/11/2016.

Accession Number: 201601115266.

Comments Due: 5 p.m. ET 2/1/16.

284.123(g) Protests Due: 5 p.m. ET 3/11/16.

Docket Numbers: RP16-378-000.

Applicants: Gulf Crossing Pipeline Company LLC.

Description: § 4(d) Rate Filing: Amendment to Neg Rate Agmt (Devon 10-15) to be effective 1/12/2016.

Filed Date: 1/12/16.

Accession Number: 20160112-5084.

Comments Due: 5 p.m. ET 1/25/16.

Docket Numbers: RP16-379-000.

Applicants: Transcontinental Gas Pipe Line Company.

Description: § 4(d) Rate Filing: Update List of Non-Confroming Service Agreements (Leidy Southeast) to be effective 2/12/2016.

Filed Date: 1/12/16.

Accession Number: 20160112-5228.

Comments Due: 5 p.m. ET 1/25/16.

Docket Numbers: RP16-380-000.

Applicants: Iroquois Gas Transmission System, L.P.

Description: § 4(d) Rate Filing: 01/12/16 Negotiated Rates—Mercuria Energy Gas Trading LLC (HUB) 7540-89 to be effective 1/11/2016.

Filed Date: 1/12/16.

Accession Number: 20160112-5230.

Comments Due: 5 p.m. ET 1/25/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified dates. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated January 13, 2016.
Nathaniel J. Davis, Sr.,
Deputy Secretary.

[FR Doc. 2016-00967 Filed 1-19-16; 8:45 am]

BILLING CODE 6717-01-P